DEPARTMENT OF HEALTH AND HUMAN SERVICES

Centers for Disease Control and Prevention

Select Panel on Preconception Care: Meeting

Name: Select Panel on Preconception Care.

Times and Dates: 12 noon-4:30 p.m., June 22, 2005. 8 a.m.-4:30 p.m., June 23, 2005.

Place: Marriott Century Center, 2000 Century Blvd NE. Atlanta, GA 30345. (404) 325-0000, fax (404) 325-4920.

Status: Open to the public, limited only by the space available. The meeting room accommodates approximately 65 people.

Purpose: The purpose of this meeting is to seek the individual input of invited panelist, along with that of their peers, in drafting national recommendations for preconception care. The Select Panel on Preconception Care will consist of nationally recognized experts from a variety of disciplines—all which focus on preconception interventions aimed at promoting women's health and reducing adverse perinatal outcomes. The group will include experts in obstetrics, family practice, pediatrics, public health, nursing, reproductive health, toxic exposures, and chronic and infectious disease.

Matters To Be Discussed: Agenda items include: a review and discussion of relevant issues arising out of the National Summit on Preconception Care; the identification of priority areas for the development of recommendations; discussion of recommended interventions both before the first pregnancy and between pregnancies (i.e., preconception and interconception care), and on population-based and individual-level interventions; and the reconvening of the Panel to finalize recommendations. Additional agenda items include: updates from organizational representatives (i.e., March of Dimes, American College of Obstetrics and Gynecology) on current initiatives; an update on activities from CDC preconception care workgroup representatives, future topics and scheduling the next meeting.

Agenda items are subject to change as priorities dictate.

For Further Information Conctact: Christopher S. Parker, MPH, MPA, Designated Federal Official, National Center on Birth Defects and Developmental Disabilities, CDC, 1600 Clifton Road, NE., (E-86), Atlanta, Georgia 30333, telephone 404/498-3098, and fax 404/498-3820.

The Director, Management Analysis and Services Office, has been delegated the authority to sign Federal Register notices pertaining to announcements of meetings and other committee management activities for both the CDC and ATSDR.

Dated: April 11, 2005.
Diane Allen,
Acting Director, Management Analysis and Services Office, Centers for Disease Control and Prevention.

[FR Doc. 05-7681 Filed 4-15-05; 8:45 am]

BILLING CODE 4163-18-P